DEPARTMENT OF TRANSPORTATION

Federal Aviation Administration

[Docket No. FAA-2026-1950]

Agency Information Collection Activities; Proposals, Submissions, and Approvals: Mitsubishi MU-2B Series Airplane Training Requirements

AGENCY: Federal Aviation Administration (FAA), Department of Transportation (DOT).

ACTION: Notice and request for comments.

SUMMARY: In accordance with the Paperwork Reduction Act of 1995, FAA invites public comments about our intention to request the Office of Management and Budget (OMB) approval to renew an information collection. The collection of information is necessary to document participation in, completion of, and compliance with the pilot training program for the MU-2B series airplane under subpart N of 14 CFR part 91.

DATES: Written comments should be submitted by May 1, 2026.

ADDRESSES: Please send written comments:

By Electronic Docket: https://www.regulations.gov/docket/FAA-2026-1950.

By Mail: Docket Operations, M-30; U.S. Department of Transportation (DOT), 1200 New Jersey Avenue SE, Room W12-140, West Building Ground Floor, Washington, DC 20590-0001.

By Fax: Docket Operations at 202-493-2251.

FOR FURTHER INFORMATION CONTACT: Kurt Skultin by email at: 9-AFS-800-Correspondence@faa.gov; phone: (202) 267-1100.

SUPPLEMENTARY INFORMATION:

Public Comments Invited: You are asked to comment on any aspect of this information collection, including (a) whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0725.

Title: Mitsubishi MU-2B Series Airplane Special Training Requirements.

Form Numbers: There are no FAA forms associated with this collection.

Type of Review: Renewal.

Background: In response to the increasing number of accidents and incidents involving the Mitsubishi MU-2B series airplane, FAA began a safety evaluation of the MU-2B in July of 2005. As a result of this safety evaluation, on February 6, 2008, the FAA issued Special Federal Aviation Regulation (SFAR) No. 108—Mitsubishi MU-2B Series Special Training, Experience, and Operating Requirements. This SFAR established a standardized pilot training program. The collection of information is necessary to document participation in, completion of, and compliance with the pilot training program for the MU-2B under subpart N of Part 91, issued on September 7, 2016, which superseded SFAR No. 108.

Respondents: Approximately 210 active MU-2 pilots, and approximately 11 Part 91 training providers.

Frequency: Every year (pilots); every two years (training providers).

Estimated Average Burden per Response: Pilots: Logbook endorsement and training course final phase check = 10 minutes. Training providers: Submission of training program = 4 hours.

Estimated Total Annual Burden: Pilots: 35 hours. Training providers: 22 hours. Total: 57 hours.

Issued in Washington, DC, on February 26, 2026.
Everette C. Rochon, Jr.,
Manager, Training and Certification Group, General Aviation and Commercial Division, Office of Safety Standards, Flight Standards Service.

[FR Doc. 2026-04116 Filed 2-27-26; 8:45 am]

BILLING CODE 4910-13-P